DEPARTMENT OF COMMERCE

Census Bureau

Proposed Information Collection; Comment Request; Automated Export System Program

AGENCY: U.S. Census Bureau, Commerce.

ACTION: Notice.

SUMMARY: The Department of Commerce, as part of its continuing effort to reduce paperwork and respondent burden, invites the general public and other Federal agencies to take this opportunity to comment on proposed and/or continuing information collections, as required by the Paperwork Reduction Act of 1995.

DATES: To ensure consideration, written comments must be submitted on or before November 19, 2018.

ADDRESSES: Direct all written comments to Jennifer Jessup, Departmental Paperwork Clearance Officer, Department of Commerce, Room 6616, 14th and Constitution Avenue NW, Washington, DC 20230 (or via the internet at docpra@doc.gov).

FOR FURTHER INFORMATION CONTACT: Requests for additional information or copies of the information collection instrument(s) and instructions should be directed to Kiesha Downs, Chief, Trade Regulations Branch, U.S. Census Bureau, 4600 Silver Hill Road, Washington, DC 20233-6700, (301) 763-7079, by fax (301) 763-8835 or by email kiesha.downs@census.gov.

SUPPLEMENTARY INFORMATION:

I. Abstract

The Automated Export System (AES) or successor system is the instrument used for collecting export trade information from parties exporting goods from the United States. The U.S. Census Bureau compiles data collected through the AES and these data are the basis for the official U.S. goods export trade statistics. These statistics are used to determine the balance of international trade and are also designated for use as a principal federal economic indicator. Title 13, United States Code (U.S.C.), Chapter 9, Section 301 authorizes the U.S. Census Bureau to collect, compile and publish export trade data. Title 15, Code of Federal Regulations, Part 30, contains the regulatory provisions for preparing and filing the AES record in accordance to the Foreign Trade Regulations (FTR). These data are used in the development of U.S. Government policies that affect the economy. These data also enable U.S. businesses to develop practical export marketing strategies as well as provide a means for the assessment of the impact of exports on the domestic economy. In addition to being used in the development of U.S. government economic and foreign trade policies, these data are also used for export control, to detect and prevent the export of certain items by unauthorized parties or to unauthorized destinations or end users.

The FTR was amended on April 19, 2017, through the issuance of a Final Rule, “Clarification on Filing Requirements,” to make changes related to the implementation of the International Trade Data System (ITDS), in accordance with the Executive Order 13659, Streamlining the Export/Import Process for American Businesses. The ITDS was established by the Security and Accountability for Every (SAFE) Port Act of 2006. The ITDS is an electronic information exchange capability, or “single window,” through which businesses transmit the data required by participating agencies for the importation or exportation of cargo. This rule added the original Internal Transaction Number (ITN) data element in the AES. The Original ITN field is an optional field that may be utilized if the filer has to create an additional AES record for a shipment that was previously filed. The Original ITN field assists the export trade community and enforcement agencies in identifying that a filer completed the mandatory filing requirements for the original shipment. In doing so, this may decrease the issuance of unnecessary penalties for these types of shipments. Overall, these changes did not impact the reporting burden of the export trade community.

The FTR was also amended on April 24, 2018, through the issuance of a Final Rule, “Clarification on the Collection and Confidentiality of Kimberley Process Certificates,” to clarify that the data collected from the Kimberley Process Certificates (KPCs) are collected in compliance with the Clean Diamond Trade Act. In addition, this Rule clarified the submission requirements and permissible uses of the KPCs. However, these changes did not impact the reporting burden of the export trade community.

Currently, the Census Bureau is drafting a Notice of Proposed Rulemaking (NPRM) to clarify the responsibilities of parties participating in routed and standard export transactions. This rule also proposes to revise and add several key terms used in the regulatory provision of these transactions, including authorized agent, forwarding agent, standard export transaction and written release. While revisions to the FTR are necessary to improve clarity to the filing requirements for the routed export transaction, it is critical for the Census Bureau to ensure that any revisions made to the FTR will allow for the continued collection and compilation of accurate trade statistics. Additionally, it is important that the responsibilities of the U.S. Principal Party in Interest (USPPI) and the U.S. authorized agent are clearly defined to ensure that the Electronic Export Information is filed by the appropriate party to prevent receiving duplicate filings or in some cases, no filings. The changes proposed in the NPRM will not have an impact on the reporting burden of the export trade community.

II. Method of Collection

Except as noted in Title 15 CFR, Part 30, Section 30.2(a)(1)(iv), an electronic AES record is required for all export shipments valued more than $2,500 per Schedule B number from the United States, including Foreign Trade Zones located therein, Puerto Rico, and the U.S. Virgin Islands to foreign countries; for exports between the United States and Puerto Rico; and for exports to the U.S. Virgin Islands from the United States or Puerto Rico. Additionally, an AES record is required for the export of rough diamonds, used self-propelled vehicles and all exports requiring an export license from any other government agency or license exemption from the Department of State, regardless of value. An AES record is also required for exports with certain license exceptions from the Bureau of Industry and Security. The AES program is unique among Census Bureau statistical collections since it is not sent to respondents to solicit responses, as is the case with surveys. Filing export information via the AES is a mandatory process under Title 13 U.S.C., Chapter 9, Section 301. The export trade community can access the AES via a free internet-based system, AESDirect, or they can use software that connects directly with the U.S. CBP Automated Commercial Environment (ACE).

For exports to Canada, a Memorandum of Understanding (MOU) signed by CBP, Canada Border Services Agency, Statistics Canada, and the U.S. Census Bureau enables the United States to substitute Canadian import statistics for U.S. export statistics. Similarly, in accordance with the MOU, Canada substitutes U.S. import statistics for Canadian exports to the United States. This exchange of data eliminates the requirement for the export trade community to file the Electronic Export Information (EEI) with the U.S. government for the majority of export shipments to Canada, thus resulting in the elimination of over eight million AES records annually. Export shipments to Canada of rough diamonds, used vehicles, or those that require a license must be filed through the AES. In addition, export shipments from the United States through Canada destined to a country other than Canada require an AES record.

In most instances, the USPPI or authorized agent must file EEI via the AES and annotate the commercial loading documents with the proof of filing citation prior to the export of a shipment. In instances where the AES filing is not required, the proper exemption or exclusion legend must be noted on the commercial loading documents per Section 30.7 of the FTR.

CBP is currently conducting pilots to test the functionality regarding the filing of export manifests for air, rail, and ocean cargo to the ACE. These pilots will further the ITDS initiatives set forth in the SAFE Port Act of 2006 and Executive Order 13659. It is CBP's intent to move export manifesting from the current paper-based system to an electronic system over the next several years. FTR Sections 30.7 and 30.45, require evidence of the proof of filing, post departure filing citation, AES downtime citation, exemption or exclusion legend on the bill of lading, air waybill, or other commercial loading documents. These annotations also appear in the electronic manifest submitted to CBP. Since filers use many variations to annotate commercial loading documents, the Census Bureau, CBP, and the trade community developed guidance to ensure that a standard format is reported in the electronic manifest. This information was published in FTR Letter #10 titled Annotating the Electronic Manifest for U.S. Customs and Border Protection.

The AES enables the U.S. government to significantly improve the quality, timeliness, and coverage of export statistics. Since July 1995, the Census Bureau and the CBP have utilized the AES to improve the reporting of export trade information, customer service, increase compliance with and enforcement of export laws, and to provide paperless reports of export information. The AES also enables the U.S. government to increase its ability to prevent the export of certain items by unauthorized parties to unauthorized destinations and end users through electronic filing.

III. Data

OMB Control Number: 0607-0152.

Form Number(s): Automated Export System (AES) submissions.

Type of Review: Regular submission.

Affected Public: Exporters, Forwarding agents, Export Carriers.

Estimated Number of Respondents: 287,314 filers who submit 17,315,950 shipments annually through the AES.

Estimated Time per Response: 3 minutes per AES submission.

Estimated Total Annual Burden Hours: 865,798.

Estimated Total Annual Cost to Public: $15,688,260.

Respondent's Obligation: Mandatory.

Legal Authority: Title 13 United States Code, Chapter 9, Section 301.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for Office of Management and Budget approval of this information collection; they also will become a matter of public record.

Sheleen Dumas,
Departmental Lead PRA Officer, Office of the Chief Information Officer.

[FR Doc. 2018-20205 Filed 9-17-18; 8:45 am]

BILLING CODE 3510-07-P